DEPARTMENT OF COMMERCE

International Trade Administration

[A-570-873]

Notice of Amended Final Antidumping Duty Determination of Sales at Less Than Fair Value and Antidumping Duty Order: Ferrovanadium From the People's Republic of China

AGENCY: Import Administration, International Trade Administration, Department of Commerce.

ACTION: Notice of Amended Final Antidumping Duty Determination of Sales at Less Than Fair Value and Antidumping Duty Order.

SUMMARY: We are amending our final determination (See Notice of Final Determination of Sales at Less Than Fair Value: Ferrovanadium from the People's Republic of China, 67 FR 71137 (November 29, 2002) (Final Determination)) to reflect the correction of certain ministerial errors. This correction is in accordance with section 735(e) of the Tariff Act of 1930, as amended (the Act), and 19 CFR 351.224. The period of investigation (POI) covered by this amended final determination is April 1, 2001, through September 30, 2001. This notice also constitutes the antidumping duty order with respect to ferrovanadium from the People's Republic of China (the PRC).

EFFECTIVE DATE: January 28, 2003.

FOR FURTHER INFORMATION CONTACT: Karine Gziryan or Howard Smith; AD/CVD Enforcement, Office 4, Group II, Import Administration, International Trade Administration, U.S. Department of Commerce, 14th Street and Constitution Avenue, NW, Washington, DC 20230; telephone: (202) 482-4081 and (202) 482-5193, respectively.

SUPPLEMENTARY INFORMATION:

Scope of the Order

The scope of this order covers all ferrovanadium regardless of grade, chemistry, form, shape, or size. Ferrovanadium is an alloy of iron and vanadium that is used chiefly as an additive in the manufacture of steel. The merchandise is commercially and scientifically identified as vanadium. The scope specifically excludes vanadium additives other than ferrovanadium, such as nitrided vanadium, vanadium-aluminum master alloys, vanadium chemicals, vanadium oxides, vanadium waste and scrap, and vanadium-bearing raw materials such as slag, boiler residues and fly ash. Merchandise under the following Harmonized Tariff Schedule of the United States (HTSUS) item numbers 2850.00.2000, 8112.40.3000, and 8112.40.6000 are specifically excluded. Ferrovanadium is classified under HTSUS item number 7202.92.00. Although the HTSUS item number is provided for convenience and Customs purposes, the Department's written description of the scope of this order remains dispositive.

Amended Final Determination

On November 29, 2002, in accordance with sections 735(d) and 777(i)(1) of the Act, the Department published its affirmative final determination in this proceeding. See Final Determination, 67 FR 71137. Pursuant to 19 CFR 351.224(c), on December 5, 2002, the Department received timely filed allegations of ministerial errors in the Final Determination from the petitioners¹ and the respondent, Pangang Group International Economic & Trading Corp. (Pangang). The petitioners alleged that the Department inadvertently failed to (1) exclude aberrational data from the calculation of the surrogate value for sulfuric acid, (2) remove all subsidized imports from the import statistics used to calculate the surrogate value for wooden boxes, and (3) accurately convert the unit of measure for Pangang's consumption of nitrogen. Pangang alleged that the Department failed to (1) accurately calculate the surrogate value for barium peroxide and (2) calculate normal value using the correct consumption quantities for the auxiliary materials used to produce FeV80. On December 10, 2002, Pangang filed rebuttal comments in response to the petitioners' allegation of ministerial errors.

¹ The petitioners in this proceeding are the Ferroalloys Association Vanadium Committee (TFA Vanadium Committee) and its members: Bear Metallurgical Company, Shieldalloy Metallurgical Corporation, Gulf Chemical & Metallurgical Corporation, U.S. Vanadium Corporation, and CS Metals of Louisiana LLC.

We have reviewed the calculations used in the Final Determination and find that there are two errors that constitute ministerial errors within the meaning of 19 CFR 351.224(f). For a detailed analysis of the ministerial error allegations and the Department's position on each, see Memorandum to Faryar Shirzad, Assistant Secretary for Import Administration, from Bernard T. Carreau, Deputy Assistant Secretary for Import Administration, “Allegation of Ministerial Errors in the Final Determination,” dated concurrently with this notice. Pursuant to section 735(e) of the Act, we have amended the Final Determination and corrected the following errors: (1) the calculation of the surrogate value for barium peroxide and (2) the auxiliary material consumption quantities for FeV80. Correcting these errors changes Pangang's final antidumping duty margin from 13.03 percent to the margin listed below. We found the petitioners' allegations to involve methodological issues, rather than ministerial errors, and therefore have not adjusted Pangang's final antidumping duty margin based on the petitioners' allegations.

Antidumping Duty Order

On January 13, 2003, in accordance with section 735(d) of the Act, the International Trade Commission (the Commission) notified the Department of its final determination that an industry in the United States is materially injured by reason of less-than-fair-value imports of subject merchandise from the PRC, pursuant to section 735(b)(1)(A) of the Act. Therefore, in accordance with section 736(a)(1) of the Act, the Department will direct the U.S. Customs Service to assess, upon further advice by the Department, antidumping duties equal to the amount by which the normal value of the merchandise exceeds the export price of the merchandise for all relevant entries of ferrovanadium from the PRC. For all producers and exporters, antidumping duties will be assessed on all unliquidated entries of subject merchandise that are entered, or withdrawn from warehouse, for consumption on or after July 8, 2002, the date on which the Department published its notice of affirmative preliminary determination in the Federal Register. See Notice of Preliminary Determination of Sales at Less Than Fair Value and Postponement of Final Determination: Ferrovanadium from the People's Republic of China, 67 FR 45088 (July 8, 2002).

On or after the date of publication of this notice in the Federal Register, the U.S. Customs Service must require, at the same time as importers would normally deposit estimated duties, cash deposits for the subject merchandise equal to the estimated weighted-average dumping margins listed below. The “PRC-Wide” rate applies to all exporters of subject merchandise not specifically listed below.

Manufacturer/exporter | Margin (%)
Pangang Group International Economic & Trading Corporation | 12.97
PRC-Wide Rate | 66.71

This notice constitutes the antidumping duty order with respect to ferrovanadium from the PRC. Interested parties may contact the Department's Central Records Unit, Room B-099 of the main Commerce building, for copies of an updated list of antidumping duty orders currently in effect.

This order is issued and published in accordance with section 736(a) of the Act and 19 CFR 351.211.

Dated: January 21, 2003.
Faryar Shirzad,
Assistant Secretary for Import Administration.

[FR Doc. 03-1900 Filed 1-27-03; 8:45 am]

BILLING CODE 3510-DS-S